DEPARTMENT OF TRANSPORTATION

Federal Aviation Administration

14 CFR Part 71

[Docket No. FAA-2022-0940; Airspace Docket No. 21-ASO-26

RIN 2120-AA66

Proposed Amendment and Revocation of VOR Federal Airways; Eastern United States

AGENCY: Federal Aviation Administration (FAA), DOT.

ACTION: Notice of proposed rulemaking (NPRM).

SUMMARY: This action proposes to modify five VHF Omnidirectional Range (VOR) Federal airways, and remove one airway. This action supports the FAA's VOR Minimum Operational Network (MON) program.

DATES: Comments must be received on or before September 29, 2022.

ADDRESSES: Send comments on this proposal to the U.S. Department of Transportation, Docket Operations, 1200 New Jersey Avenue SE, West Building Ground Floor, Room W12-140, Washington, DC 20590; telephone: (800) 647-5527 or (202) 366-9826. You must identify FAA Docket No. FAA-2022-0940; Airspace Docket No. 21-ASO-26 at the beginning of your comments. You may also submit comments through the internet at www.regulations.gov. FAA Order JO 7400.11F, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the VOR Federal airway route structure in the eastern United States to maintain the efficient flow of air traffic.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal. Communications should identify both docket numbers (FAA Docket No. FAA-2022-0940; Airspace Docket No. 21-ASO-26) and be submitted in triplicate to the Docket Management Facility (see ADDRESSES section for address and phone number). You may also submit comments through the internet at www.regulations.gov.

Commenters wishing the FAA to acknowledge receipt of their comments on this action must submit with those comments a self-addressed, stamped postcard on which the following statement is made: “Comments to FAA Docket No. FAA-2022-0940; Airspace Docket No. 21-ASO-26.” The postcard will be date/time stamped and returned to the commenter.

All communications received on or before the specified comment closing date will be considered before taking action on the proposed rule. The proposal contained in this action may be changed in light of comments received. A report summarizing each substantive public contact with FAA personnel concerned with this rulemaking will be filed in the docket.

Availability of NPRMs

An electronic copy of this document may be downloaded through the internet at www.regulations.gov. Recently published rulemaking documents can also be accessed through the FAA's web page at www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Eastern Service Center, Federal Aviation Administration, Room 210, 1701 Columbia Ave., College Park, GA 30337.

Availability and Summary of Documents for Incorporation by Reference

This document proposes to amend FAA Order JO 7400.11F, Airspace Designations and Reporting Points, dated August 10, 2021, and effective September 15, 2021. FAA Order JO 7400.11F is publicly available as listed in the ADDRESSES section of this proposed rule. FAA Order JO 7400.11F lists Class A, B, C, D, and E airspace areas, air traffic service routes, and reporting points.

The Proposal

The FAA is proposing an amendment to 14 CFR part 71 to modify VHF Omnidirectional Range (VOR) Federal airways V-67, V-159, V-185, V-209, and V-379; and remove airway V-541. The proposed route changes are described below.

V-67: V-67 consists of two parts: From Choo Choo, TN, to Shelbyville, TN; and From the intersection of the Centralia, IL 010° and the Vandalia, IL 162° radials, to Rochester, MN. This proposal would remove the first part of the route. The second part of the route would remain unchanged as currently charted.

V-159: V-159 consists of two parts: From Virginia Key, FL to Vulcan, AL; and From Holly Springs, MS to Omaha IA. The proposed change would remove Tuskegee, AL from the first part of the route. In place of Tuskegee, the existing KENTT Intersection would be added to the route description. The KENTT Intersection is defined by the intersection of the Eufaula, AL 320°(T)/318°(M) and the Vulcan, AL 139°(T)/137°(M) radials. This change would not affect the alignment of V-159. Existing United States Area Navigation (RNAV) route T-239 overlays V-159 from Vulcan, AL, to Pecan, GA. As amended, V-159 would extend from Virginia Key, FL to Vulcan, AL; and From Holly Springs, MS to Omaha, IA.

V-185: V-185 extends from Savannah, GA, to Volunteer, TN. The FAA proposes to remove Greenwood, SC, and Sugarloaf Mountain, NC, from the route. As amended, V-185 would consist of two parts: From Savannah, GA, to Colliers, SC; and From Snowbird, TN, to Volunteer, TN.

V-209: V-209 consists of two parts: From Semmes, AL, to the intersection of the of the Semmes 356° and the Eaton, MS 080° radials; and From the intersection of the Bigbee, MS 139° and the Brookwood, AL 230° radials, to Choo Choo, TN. This action would terminate the second part of the route at Gadsden, AL, and remove the segment from Gadsden to Choo Choo, TN.

As amended, V-209 would extend From Semmes, AL, to the intersection of the of the Semmes 356° and the Eaton, MS 080° radials; and From the intersection of the Bigbee, MS 139° and the Brookwood, AL 230° radials, to Gadsden, AL.

V-379: V-379 extends from Nottingham, MD, to Smyrna, DE. This action would replace the Nottingham VHF Omnidirectional Range and Tactical Air Navigational System (VORTAC) with an intersection defined by radials from the Westminster, MD (EMI), VORTAC and the Smyrna, DE (ENO), VORTAC (the BUKYY intersection). As amended, V-379 would extend from the intersection of the Westminster 167°(T)/175°(M) and the Smyrna 242°(T)/251°(M) radials; to Smyrna.

V-541: V-541 extends from Gadsden, AL, to the intersection of the Gadsden 318° and the Vulcan, AL 029° radials. This route is only 28 nautical miles long and is not required by air traffic control. The FAA proposes to remove the route in its entirety. The full descriptions of the above routes are listed in the proposed amendments to part 71 set forth below.

Domestic VOR Federal airways are published in paragraph 6010(a) of FAA Order JO 7400.11F, dated August 10, 2021, and effective September 15, 2021, which is incorporated by reference in 14 CFR 71.1. The VOR Federal airways listed in this document would be subsequently published in and removed from FAA Order JO 7400.11.

FAA Order JO 7400.11, Airspace Designations and Reporting Points, is published yearly and effective on September 15.

Regulatory Notices and Analyses

The FAA has determined that this proposed regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 6010(a) Domestic VOR Federal Airways.

* * * * *

V-67 [Amended]

From INT Centralia 010° and Vandalia, IL, 162° radials; Vandalia; Spinner, IL; Burlington, IA; Iowa City, IA; Cedar Rapids, IA; Waterloo, IA; to Rochester, MN.

* * * * *

V-159 [Amended]

From Virginia Key, FL: INT Virginia Key 344° and Treasure, FL, 178° radials; Treasure; INT Treasure 318° and Orlando, FL, 140° radials; Orlando; Ocala, FL; Cross City, FL; Greenville, FL; Pecan, GA; Eufaula, AL; INT Eufaula, 320° and Vulcan, AL 139° radials to Vulcan. From Holly Springs, MS; Gilmore, AR; Walnut Ridge, AR; Dogwood, MO; Springfield, MO; Napoleon, MO; INT Napoleon 005° and St. Joseph, MO, 122° radials; St. Joseph; to Omaha, IA.

* * * * *

V-185 [Amended]

From Savannah, GA; INT Savannah 335° and Colliers, SC, 150° radials; to Colliers. From Snowbird, TN; INT Snowbird 301° and Volunteer, TN, 069° radials; to Volunteer.

* * * * *

V-209 [Amended]

From Semmes, AL, to INT Semmes 356° and Eaton, MS, 080° radials. From INT Bigbee, MS 139° and Brookwood, AL 230° radials; Brookwood; Vulcan, AL; INT Vulcan 097° and Gadsden, AL, 233° radials; to Gadsden.

* * * * *

V-379 [Amended]

From INT Westminster, MD 167° and Smyrna, DE 242° radials; to Smyrna.

* * * * *

V-541 [Removed]

* * * * *

Issued in Washington, DC, on August 4, 2022.
Scott M. Rosenbloom,
Manager, Airspace Rules and Regulations.

[FR Doc. 2022-17210 Filed 8-12-22; 8:45 am]

BILLING CODE 4910-13-P